DEPARTMENT OF STATE

[Public Notice 5184]

Culturally Significant Objects Imported for Exhibition Determinations: “Fra Angelico”

ACTION: Notice; correction.

SUMMARY: On January 31, 2005, Notice was published on page 4913 of the Federal Register (Volume 70, Number 19) by the Department of State pertaining to the exhibition “Fra Angelico.” The referenced Notice is hereby corrected to include eight additional loans imported from abroad for temporary exhibition within the United States, which I hereby determine are of cultural significance. The objects are imported pursuant to a loan agreement with the foreign lenders. I also determine that the exhibition or display of the exhibit objects at The Metropolitan Museum of Art, New York, NY from on or about October 25, 2005 to on or about January 29, 2006, and at possible additional venues yet to be determined, is in the national interest. Public Notice of these determinations is ordered to be published in the Federal Register.

FOR FURTHER INFORMATION CONTACT: For further information, including a list of the exhibit objects, contact Carol B. Epstein, Attorney-Adviser, Office of the Legal Adviser, Department of State, (telephone: 202/453-8048). The address is Department of State, SA-44, 301 4th Street, SW., Room 700, Washington, DC 20547-0001.

Dated: August 31, 2005.
C. Miller Crouch,
Principal Deputy Assistant Secretary for Educational and Cultural Affairs, Department of State.

[FR Doc. 05-17806 Filed 9-7-05; 8:45 am]

BILLING CODE 4710-08-P